NATIONAL SCIENCE FOUNDATION

Alan T. Waterman Award Committee; Notice of Meeting

In accordance with the Federal Advisory Committee Act (Pub. L. 92-463, as amended), the National Science Foundation announces the following meeting:

NAME: Alan T. Waterman Award Committee (#1172).

DATE AND TIME: January 19, 2016, 9:00 a.m.-2:30 p.m.

PLACE: National Science Foundation, 4201 Wilson Boulevard, Room 1235, Arlington, Virginia 22230.

TYPE OF MEETING: Closed.

CONTACT PERSON: Sherrie B. Green, Program Manager, Room 933, (703) 292-5053.

PURPOSE OF MEETING: To provide advice and recommendations in the selection of the Alan T. Waterman Award recipient.

AGENDA: To review and evaluate nominations as part of the selection process for awards.

REASON FOR CLOSING: The nominations being reviewed include information of a proprietary or confidential nature, including technical information; financial data, such as salaries; and personal information concerning individuals associated with the nominations. These matters are exempt under 5 U.S.C. 552b(c), (4) and (6) of the Government in the Sunshine Act.

Dated: December 1, 2015.
Crystal Robinson,
Committee Management Officer.

[FR Doc. 2015-30635 Filed 12-3-15; 8:45 am]

BILLING CODE 7555-01-P